DEPARTMENT OF ENERGY

Federal Energy Regulatory Commission

[Docket No. CP08-44-000]

Kinder Morgan Interstate Gas Transmission LLC; Notice of Request Under Blanket Authorization

January 8, 2008.

Take notice that on December 21, 2007, Kinder Morgan Interstate Gas Transmission LLC (KMIGT), Post Office Box 281304, Lakewood, Colorado 80228-8304, filed in Docket No. CP08-44-000 a prior notice request pursuant to sections 157.205 and 157.210 of the Commission's regulations under the Natural Gas Act (NGA) and KMIGT's blanket certificate issued March 16, 1983 in Docket Nos. CP83-140-000 and CP83-140-001, for authorization to construct and operate mainline pipeline looping and ancillary facilities primarily to serve existing and new ethanol plants under construction in the State of Nebraska, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

KMIGT states that as a result of an open season and subsequent negotiations, KMIGT has entered into binding precedent agreements with five shippers to provide natural gas service totaling 21,810 Dth per day. KMIGT proposes to construct and operate two mainline looping pipeline segments consisting of approximately 7.5 miles of 16-inch pipe and approximately 17 miles of 12-inch pipe, located in Hall, Merrick and Nance Counties, Nebraska. In addition, KMIGT proposes to construct and operate certain ancillary facilities. The estimated cost of constructing the proposed facilities is $23,940,143.

Any questions regarding the application should be directed to Skip George, Manager of Regulatory, Kinder Morgan Interstate Gas Transmission LLC, P.O. Box 281304, Lakewood, Colorado 80228-8304, phone (303) 914-4969.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E8-504 Filed 1-14-08; 8:45 am]

BILLING CODE 6717-01-P